Title 3—

The President

Proclamation 7837 of October 24, 2004

United Nations Day, 2004

By the President of the United States of America

A Proclamation

On United Nations Day, we commemorate the founding of the United Nations in 1945 and recognize its many contributions to advancing peace and human rights around the world.

Our Declaration of Independence and the United Nations' Universal Declaration of Human Rights proclaim the equal value and dignity of every human life. That dignity is honored by the rule of law, limits on the power of the state, respect for women, protection of private property, free speech, equal justice, and religious tolerance. These founding documents affirm that the bright line between justice and injustice is the same in every age, every culture, and every nation.

Today, the United Nations is helping advance these ideals in many places around the globe. The U.N. assisted Afghanistan in making history when Afghan women and men voted in a democratic Presidential election earlier this month. In Sudan, Liberia, Haiti, and other nations, the U.N. has been working to bring security, stability, and humanitarian assistance to people in need. From Africa to the Caribbean to Asia, the U.N. is helping to turn societies away from old conflicts, overcome persistent poverty, and fight HIV/AIDS and other diseases.

The United States remains committed to the high ideals of the U.N. as stated in its charter: “To save succeeding generations from the scourge of war . . . to reaffirm faith in fundamental human rights . . . and to promote social progress and better standards of life in larger freedom.”

NOW, THEREFORE, I, GEORGE W. BUSH, President of the United States of America, by virtue of the authority vested in me by the Constitution and laws of the United States, do hereby proclaim October 24, 2004, as United Nations Day. I urge the Governors of the 50 States, the Governor of the Commonwealth of Puerto Rico, and the officials of other areas under the flag of the United States to honor the observance of United Nations Day with appropriate ceremonies and activities.

IN WITNESS WHEREOF, I have hereunto set my hand this twenty-fourth day of October, in the year of our Lord two thousand four, and of the Independence of the United States of America the two hundred and twenty-ninth.

B

[FR Doc. 04-24172

Filed 10-26-04; 9:08 am]

Billing code 3195-01-P